SURFACE TRANSPORTATION BOARD

[Docket No. FD 36856]

Providence and Worcester Railroad Company—Operation Exemption—State of Connecticut

Providence and Worcester Railroad Company (P&W), a Class III railroad, has filed a verified notice of exemption pursuant to 49 CFR 1150.41 to enter into an operating agreement with the State of Connecticut (the State) to operate approximately 16.84 miles of railroad known as the Middletown Cluster, consisting of the following lines (collectively, the Line): (1) the Cromwell Industrial Track from its connection to the Laurel Industrial Track in Middletown (approximately milepost 22.34) north along the west side of the Connecticut River to the end of the line in Cromwell, Conn. (approximately milepost 24.35); ¹ (2) the East Berlin Industrial Track in Middletown, Conn., from its point of connection to the Cromwell Industrial Track (approximately milepost 0.0) to the end of the line (approximately milepost 1.0); (3) the Laurel Industrial Track from its connection to the Middletown Secondary on the west side of the Connecticut River Swing Bridge (approximately milepost 0.0) south along the west side of the Connecticut River to the end of the line in Laurel, Middletown Township, Conn. (approximately milepost 5.47); (4) the Middletown Secondary from a point approximately 4,330 feet south of the centerline of Route 157—Overhead Bridge No. 17.71 in Reed's Gap, Durham Township, Conn. (approximately milepost 14.99) to the west side of the Connecticut River Swing Bridge (approximately milepost 22.34); and (5) the Portland Industrial Track from the west side of the Connecticut River Swing Bridge, its connection to the Middletown Secondary in Middletown (approximately milepost 0.0) to the easterly side of Marlboro Street in Portland, Conn. (approximately milepost 1.01).

¹ The verified notice states that the mileposts have been revised in order to reflect the current designation.

According to the verified notice, the State owns the Line, and P&W currently operates the Line as a successor in interest to Connecticut Central Railroad Company, Inc. (CCR).² P&W states that CCR began operating the Line in 1987.³ The verified notice states that P&W and the State have entered into a new operating agreement that will replace the prior operating agreement. P&W explains that it will continue to operate the Line under the new operating agreement, which is for a twenty-year term with up to two ten-year extensions. The verified notice notes that as the successor to CCR, P&W also currently operates the State's approximately 11.49-mile Wethersfield Secondary rail line pursuant to a modified certificate,⁴ and further states that this arrangement will continue under the new operating agreement.⁵ According to the verified notice, the new operating agreement will be effective on the effective date of the exemption.

² See Providence & Worcester R.R.—Acquis. & Operation Exemption—Conn. Cent. R.R., FD 33527, slip op. at 1, 3 (STB served Mar. 3, 1998) (exempting from prior approval requirements P&W's acquisition and operation of CCR); Providence & Worcester R.R.—Corp. Fam. Transaction Exemption—Conn. Cent. R.R., FD 33592, slip op. at 1 (STB served May 15, 1998) (giving notice that CCR will merge into P&W in exempt intra-corporate family transaction).

³ See Conn. Cent. R.R.—Operation Exemption—Certain Lines of the State of Conn., FD 31045, slip op. at 1-2 (ICC served June 3, 1987). P&W represents that “P&W and the State extended the original operating agreement, but it does not appear that Board authorization was sought, and P&W is not now seeking retroactive authority.” The class exemption invoked by P&W does not provide for retroactive effectiveness. See Cent. N.Y. R.R.—Lease & Operation Exemption Including Interchange Commitment—Norfolk S. Ry., FD 36825, slip op. at 2 n.3 (STB served Mar. 28, 2025).

⁴ See Conn. Cent. R.R.—Modified Rail Certificate, FD 33125, slip op. at 1-2 (STB served Oct. 17, 1996); Conn. Cent. R.R.—Modified Rail Certificate, FD 33515, slip op. at 1 (STB served Dec. 22, 1997).

⁵ Board approval is not required for lease amendments or extensions where the subject line is operated under a modified certificate of public convenience and necessity. Vt. Ry.—Modified Rail Certificate, FD 34455, slip op. at 2 (STB served Jan. 27, 2004).

The verified notice states that the new operating agreement does not include an interchange commitment. P&W further certifies that its projected annual revenues due to this transaction will not result in the creation of a Class II or Class I rail carrier.

P&W certifies that its revenues currently exceed $5 million. Pursuant to 49 CFR 1150.42(e), if a carrier's projected annual revenues will exceed $5 million, it must, at least 60 days before this exemption is to become effective, post a notice of its intent to undertake the proposed transaction at the workplace of the employees on the affected lines, serve a copy of the notice on the national offices of the labor unions with employees on the affected lines, and certify to the Board that it has done so. However, P&W's verified notice of exemption includes a request for waiver of the 60-day advance labor notice requirement so that the exemption can become effective 30 days after the verified notice was filed. P&W's waiver request will be addressed in a separate decision. The Board will establish the effective date of the exemption in its separate decision on the waiver request.

If the verified notice contains false or misleading information, the exemption is void ab initio. Petitions to revoke the exemption under 49 U.S.C. 10502(d) may be filed at any time. The filing of a petition to revoke will not automatically stay the effectiveness of the exemption. Petitions for stay must be filed no later than December 5, 2025.

All pleadings, referring to Docket No. FD 36856, must be filed with the Surface Transportation Board either via e-filing on the Board's website or in writing addressed to 395 E Street SW, Washington, DC 20423-0001. In addition, a copy of each pleading must be served on P&W's representative, Justin J. Marks, Clark Hill PLC, 1001 Pennsylvania Ave. NW, Suite 1300 South, Washington, DC 20004.

According to P&W, this action is categorically excluded from environmental review under 49 CFR 1105.6(c) and from historic preservation reporting requirements under 49 CFR 1105.8(b).

Board decisions and notices are available at www.stb.gov.

Decided: November 24, 2025.
By the Board, Anika S. Cooper, Chief Counsel, Office of Chief Counsel.
Kenyatta Clay,
Clearance Clerk.

[FR Doc. 2025-21376 Filed 11-26-25; 8:45 am]

BILLING CODE 4915-01-P